DEPARTMENT OF ENERGY

Federal Energy Regulatory Commission

Combined Notice of Filings

Take notice that the Commission has received the following Natural Gas & Oil Pipeline Rate and Refund Report filings:

Filings in Existing Proceedings

Docket Numbers: RP23-76-000.

Applicants: National Grid LNG, LLC.

Description: Report Filing: 2023-06-02-In-Service Notification eff. 5/25/2023 re dockets CP16-121-000 et al. to be effective N/A.

Filed Date: 6/2/23.

Accession Number: 20230602-5151.

Comment Date: 5 p.m. ET 6/14/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 5, 2023.
Debbie-Anne A. Reese,
Deputy Secretary.

[FR Doc. 2023-12371 Filed 6-8-23; 8:45 am]

BILLING CODE 6717-01-P